ENVIRONMENTAL PROTECTION AGENCY

40 CFR Part 300

[EPA-HQ-SFUND-1986-0005; FRL-9846-3]

National Oil and Hazardous Substances Pollution Contingency Plan; National Priorities List: Partial Deletion of the Torch Lake Superfund Site

AGENCY: U.S. Environmental Protection Agency.

ACTION: Proposed rule; notice of intent.

SUMMARY: The U.S. Environmental Protection Agency Region 5 is issuing a Notice of Intent to Delete the Quincy Smelter and Calumet Lake parcels of OU3 of the Torch Lake Superfund Site (Site), located in Houghton County, Michigan, from the National Priorities List (NPL) and requests public comments on this proposed action. The NPL, promulgated pursuant to Section 105 of the Comprehensive Environmental Response, Compensation, and Liability Act (CERCLA) of 1980, as amended, is an appendix of the National Oil and Hazardous Substances Pollution Contingency Plan (NCP). EPA with the concurrence of the State of Michigan, through the Michigan Department of Environmental Quality (MDEQ), has determined that all appropriate response actions under CERCLA, other than operation, maintenance, and five year reviews, at these identified parcels have been completed. However, this deletion does not preclude future actions under Superfund.

This partial deletion pertains to the surface tailings and slag deposits of the Quincy Smelter and Calumet Lake parcels of OU3. The following parcels or areas will remain on the NPL and are not being considered for deletion as part of this action: Dollar Bay, Point Mills, Boston Pond, and North Entry.

DATES: Comments must be received by September 16, 2013.

ADDRESSES: Submit your comments, identified by Docket ID no. EPA-HQ-SFUND-1986-0005, by one of the following methods:

• http://www.regulations.gov: Follow online instructions for submitting comments.

• Email: Nefertiti DiCosmo, Remedial Project Manager, at mailto:dicosmo.nefertiti@epa.gov or Dave Novak, Community Involvement Coordinator, at novak.dave@epa.gov.

• Fax: Gladys Beard at (312) 697-2077.

• Mail: Nefertiti DiCosmo, Remedial Project Manager, U.S. Environmental Protection Agency (SR-6J), 77 West Jackson Boulevard, Chicago, IL 60604, (312) 886-6148 or Dave Novak, Community Involvement Coordinator, U.S. Environmental Protection Agency (SI-7J), 77 West Jackson Boulevard, Chicago, IL 60604, (312) 886-7478 or toll free at 1 (800) 621-8431.

• Hand delivery: Dave Novak, Community Involvement Coordinator, U.S. Environmental Protection Agency (SI-7J), 77 West Jackson Boulevard, Chicago, IL 60604. Such deliveries are only accepted during the docket's normal hours of operation, and special arrangements should be made for deliveries of boxed information. The normal business hours are Monday through Friday, 8:30 a.m. to 4:30 p.m. CST, excluding federal holidays.

Instructions: Direct your comments to Docket ID no. EPA-HQ-SFUND-1986-0005. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically at http://www.regulations.gov or in hard copy at:

• U.S. Environmental Protection Agency Region 5, 77 West Jackson Boulevard, Chicago, IL 60604, Phone: (312) 353-1063, Hours: Monday through Friday, 8:30 a.m. to 4:30 p.m. CST, excluding federal holidays.

• Lake Linden/Hubbell Public Library, 601 Calumet Street, Lake Linden, MI 49945, Phone: (906) 296-6211, Summer Hours: Tuesday and Thursday, 6:00 p.m. to 8:00 p.m. EST; Wednesday, 9:00 a.m. to 2:00 p.m. EST, Winter Hours: Monday through Friday, 8:00 a.m. to 3:30 p.m. EST (when school is in session); Tuesday and Thursday, 3:30 p.m. to 8:30 p.m. EST

• Portage Lake District Library, 58 Huron Street, Houghton, MI 49931, Phone: (906) 482-4570, Hours: Monday through Thursday, 10:00 a.m. to 8:00 p.m. EST; Friday, 10:00 a.m. to 5:00 p.m. EST; and Saturday, 10:00 a.m. to 3:00 p.m. EST

FOR FURTHER INFORMATION CONTACT: Nefertiti DiCosmo, Remedial Project Manager, U.S. Environmental Protection Agency (SR-6J), 77 West Jackson Boulevard, Chicago, IL 60604, (312) 886-6148, dicosmo.nefertiti@epa.gov.

SUPPLEMENTARY INFORMATION: In the “Rules and Regulations” section of today's Federal Register, we are publishing a direct final Notice of Partial Deletion for the Quincy Smelter and Calumet Lake parcels of OU3 of the Torch Lake Superfund Site without prior Notice of Intent for Partial Deletion because EPA views this as a noncontroversial revision and anticipates no adverse comment. We have explained our reasons for this deletion in the preamble to the direct final Notice for Partial Deletion, and those reasons are incorporated herein. If we receive no adverse comment(s) on this partial deletion action, we will not take further action on this Notice of Intent for Partial Deletion. If we receive adverse comment(s), we will withdraw the direct final Notice for Partial Deletion, and it will not take effect. We will, as appropriate, address all public comments in a subsequent final Notice of Partial Deletion based on this Notice of Intent for Partial Deletion. We will not institute a second comment period on this Notice of Intent for Partial Deletion. Any parties interested in commenting must do so at this time.

For additional information, see the direct final Notice of Partial Deletion which is located in the “Rules and Regulations” section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 25, 2013.
Susan Hedman,
Regional Administrator, Region 5.

[FR Doc. 2013-19758 Filed 8-15-13; 8:45 am]

BILLING CODE 6560-50-P